DEPARTMENT OF JUSTICE

Notice of Lodging of Consent Decree Under the Clean Water Act

Notice is hereby given that on July 31, 2008, a proposed Consent Decree (the “Decree”) in United States v. Bacardi Corporation, Civil Action No. 3:08-cv-1825 was lodged with the United States District Court for the District of Puerto Rico.

In a complaint, filed simultaneously with the Decree, the United States charged that Bacardi Corporation (“Bacardi”) violated the Clean Water Act, 33 U.S.C. 1251 et seq., at its facility in Cataño, Puerto Rico (“Facility”) by discharging pollutants in excess of effluent limitations contained in its National Pollutant Discharge Elimination System (“NPDES”) Permit No. PR0000591, by failing to report results of sampling conducted by Bacardi, including violations of effluent limitations, and by failing to conduct toxicity testing and report the results of such testing as required by NPDES Permit No. PR0000591.

Pursuant to the Decree, Bacardi will implement a number of compliance measures, including enhanced monitoring of certain pollutants in the Facility's effluent and developing and implementing a plan of action to address exceedances of the effluent limitations for bacterial pollutants. If Bacardi exceeds any effluent limitation prior to termination of the Decree, such exceedance may trigger a requirement to implement further compliance measures.

Bacardi will pay a $550,000 civil monetary penalty to the United States pursuant to the Decree. Bacardi must also carry out a land preservation supplemental environmental project, the value of which is estimated at approximately $1,000,000. Specifically, Bacardi will transfer title to a parcel of land containing wetlands, located in the watershed of Cienega Las Cucharillas in Cataño, Puerto Rico, to a non-profit group, and require the attachment of deed restrictions, covenants and/or easements to ensure the land is perpetually maintained as a protected area. This land preservation project will assist in restoring the ecosystem, provide environmental and public health protection, and enable the ecological resources of Cienaga Las Cucharillas and nearby mangrove forest and wetland areas to be maintained and protected to ensure future environmental benefits.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Bacardi Corporation, D.J. Ref. 90-5-1-1-08983.

The Decree may be examined at the Office of the United States Attorney, Torre Chardón, Room 1201, 350 Chardón Street, San Juan, Puerto Rico 00918, and at U.S. EPA Region 2, Office of Regional Counsel, 290 Broadway, New York, New York 10007-1866. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the U.S. Treasury or, if by e-mail or fax, forward a check in that amount to the Consent Decree Library at the stated address.

Ronald Gluck,
Assistant Chief, Environmental Enforcement Section, Environment and Natural Resources Division.

[FR Doc. E8-18053 Filed 8-6-08; 8:45 am]

BILLING CODE 4410-15-P